DEPARTMENT OF ENERGY

Federal Energy Regulatory Commission

[Project No. 13629-002]

Coleman Hydro LLC; Notice of Application Tendered for Filing With the Commission and Soliciting Additional Study Requests

Take notice that the following hydroelectric application has been filed with the Commission and is available for public inspection.

a. Type of Application: Original minor water power project.

b. Project No.: 13629-002.

c. Date filed: April 22, 2011.

d. Applicant: Coleman Hydro LLC.

e. Name of Project: Coleman Hydroelectric Project.

f. Location: On Little Timber Creek in Lemhi County near Leadore, Idaho. The project does not affect Federal lands.

g. Filed Pursuant to: Federal Power Act 16 U.S.C. 791 (a)-825(r.)

h. Applicant Contact: Nick Josten, Geosense, 2742 Saint Charles Ave., Idaho Falls, ID 83404. (208) 528-6152.

i. FERC Contact: Joseph Hassell, (202) 502-8079, joseph.hassell@ferc.gov.

j. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 22, 2011.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

m. The application is not ready for environmental analysis at this time.

n. The proposed Coleman Hydroelectric Project would consist of: (1) A new screened intake structure on Little Timber Creek that consolidates the withdrawals of the existing second and third ditches; (2) a 26,700-foot-long penstock; (3) a powerhouse with an installed capacity of 750 kilowatts; (4) a 6.7-mile-long, 12.5-kv transmission line; and (5) appurtenant facilities. The applicant estimates that the total average annual generation would be 2,200 megawatt hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

p. With this notice, we are initiating consultation with the Idaho State Historic Preservation Officer (SHPO), as required by 106, National Historic Preservation Act, and the regulations of the Advisory Council on Historic Preservation, 36 CFR 800.4.

q. Procedural schedule: The application will be processed according to the following preliminary Hydro Licensing Schedule. Revisions to the schedule will be made as appropriate.

Issue Notice of Acceptance | July 2011.
Issue Scoping Document 1 for comments | August 2011.
Comments on Scoping Document 1 | September 2011.
Issue Scoping Document 2 | December 2011.
Issue notice of ready for environmental analysis | December 2011.
Commission issues EA or draft EA | May 2012.
Comments on EA or draft EA | June 2012.
Commission issues final EA | July 2012.

Dated: May 4, 2011.
Kimberly D. Bose,
Secretary.

[FR Doc. 2011-11499 Filed 5-10-11; 8:45 am]

BILLING CODE 6717-01-P